DEPARTMENT OF COMMERCE

Foreign-Trade Zones Board

[Order No. 1707]

Expansion of Foreign-Trade Zone 157, Casper, WY

Pursuant to its authority under the Foreign-Trade Zones Act of June 18, 1934, as amended (19 U.S.C. 81a-81u), the Foreign-Trade Zones Board (the Board) adopts the following Order:

Whereas, the Casper/Natrona County International Airport, grantee of Foreign-Trade Zone 157, submitted an application to the Board for authority to expand FTZ 157 to include a site in Casper, Wyoming, within the Casper Customs and Border Protection port of entry (FTZ Docket 23-2010, filed March 29, 2010);

Whereas, notice inviting public comment has been given in the Federal Register (75 FR 17125-17126, 04/05/2010) and the application has been processed pursuant to the FTZ Act and the Board's regulations; and,

Whereas, the Board adopts the findings and recommendations of the examiner's report, and finds that the requirements of the FTZ Act and Board's regulations are satisfied, and that the proposal is in the public interest;

Now, Therefore, the Board hereby orders:

The application to expand FTZ 157 is approved, subject to the FTZ Act and the Board's regulations, including Section 400.28, and further subject to the Board's standard 2,000-acre activation limit.

Signed at Washington, DC, this 3rd day of September 2010.
Ronald K. Lorentzen,
Deputy Assistant Secretary for Import Administration, Alternate Chairman, Foreign-Trade Zones Board.
Attest
Andrew McGilvray,
Executive Secretary.

[FR Doc. 2010-23300 Filed 9-16-10; 8:45 am]

BILLING CODE 3510-DS-P